DEPARTMENT OF HEALTH AND HUMAN SERVICES

Centers for Disease Control and Prevention

[60-Day-10-10GQ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar PhD, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The Evaluation of Ordinances to Prevent Workplace Violence in Convenience Stores—NEW—National Institute for Occupational Safety and Health (NIOSH), Centers for Disease Control and Prevention,CDC).

Background and Brief Description

Workplace violence (WPV) is a significant concern for employers and employees alike; every year in the U.S., WPV results in hundreds of deaths, nearly two million nonfatal injuries, and billions of dollars in costs. Historically, retail establishments have been the focus of WPV research. In 1997-2008, there were 1,800 homicides of retail workers of which 1,572 were due to robbery or assaults.

Situational Crime Prevention programs to reduce robbery and violent crime have been proven to be successful in reducing robbery and robbery-related injury risk to both employees and customers in retail settings. These programs incorporate a criminological concept called Crime Prevention Through Environmental Design (CPTED) which theorizes that environments can be modified to make potential criminals feel they are being watched, i.e. under surveillance and thus vulnerable, resulting in avoidance of the target by increasing the robber's perception that a robbery is not worth the risk.

NIOSH is conducting an evaluation of the effectiveness of convenience store safety ordinances in Dallas and Houston, Texas. The goals of this research are to (1) Determine if the ordinances effectively increase the frequency of implementation of CPTED components in stores and decrease robbery and assaults to workers and customers; (2) determine the benefits to stores from compliance to the city ordinance; (3) determine the process the cities used for ordinance development and their recommendations to other cities, and (4) develop evidence-based recommendations to promote CPTED programs and to aid other cities which are considering safety ordinances for their retail industry.

The proposed NIOSH study will be a population based follow-up study of convenience stores which are operating 1 year after the effective date of their ordinance. A sample of 300 stores in Dallas and 300 stores in Houston will be selected. Each store will be visited by a survey interviewer who will evaluate the store environment and interview the store managers in person. Data will be collected on compliance with the safety ordinance, reasons for non-compliance, and benefits to the store from compliance including return on investment, increased sales, increased quality of customers, decreased crime, and decreased employee stress.

The participation of the store and manager will be voluntary. Data from the store evaluation will be recorded on a checklist form and will take approximately 15 minutes of the store interviewer's time. The store evaluation will not require time or assistance from the store manager and thus, is not listed in the burden hours. The interview of the store manager will require approximately 30 minutes of the manager's time. From previous studies of convenience stores, over a 90% response rate is expected. The survey method will be for the survey interviewer to first visit the store and leave the questionnaire with the manager and then return 1-2 days later for the interview. This leaves time for the manager to obtain approval from owners and upper management.

Prior to the survey, NIOSH will contact all companies in the sample who own two or more stores and obtain approval from the store owners/upper management for their store managers participation. A burden of 3 hours is estimated for each of approximately 35 owners/managers to review the questionnaire and survey protocol, and to discuss their store managers' participation with NIOSH project officers by conference call.

Once the study is completed, NIOSH will provide a copy of the final report to each participating store, the participating city Mayor's Task force for Convenience Store Safety, the police department, and the industry and community partners.

Industry leaders who participate on the Mayor's Task Force for Convenience Store Safety will provide support and voluntarily contact approximately 90 stores and recommend they participate. Additionally, approximately 3 community leaders in each city will voluntarily contact approximately 90 stores and recommend they participate. There is no cost to respondents other than their time.

Estimated Annualized Burden Hours
Respondents | Number of respondents | Number of responses per respondent | Average burden per response (in hrs) | Total burden (in hrs)
Store manager interviews | 600 | 1 | 30/60 | 300
Store owners/upper management approve manager interviews | 35 | 1 | 3 | 105
Stakeholders Industry leader recommend stores | 90 | 1 | 30/60 | 45
Community leader recommend stores | 90 | 1 | 30/60 | 45
Total |  |  |  | 495

Dated: August 8, 2010.
Maryam I. Daneshvar,
Reports Clearance Officer, Centers for Disease Control and Prevention.

[FR Doc. 2010-19835 Filed 8-13-10; 8:45 am]

BILLING CODE P